DEPARTMENT OF DEFENSE

Department of the Navy

Notice of Availability of Government-Owned Invention; Available for Licensing

AGENCY: Department of the Navy, DoD.

ACTION: Notice.

SUMMARY: The Department of the Navy hereby gives notice of the general availability of exclusive or partially exclusive licenses under the following pending patent. Any license granted shall comply with 35 U.S.C. 209 and 37 CFR part 404. Applications will be evaluated utilizing the following criteria: (1) Ability to manufacture and market the technology; (2) manufacturing and marketing ability; (3) time required to bring technology to market and production rate; (4) royalties; (5) technical capabilities; and (6) small business status.

Patent application Serial Number 09/978669 entitled “A Novel Assay For Detecting Immune Responses Involving Antigen Specific Cytokine and/or Antigen Specific Cytokine Secreting T-Cells” filed 18 October 2001 and its PCT/US01/32442. The present invention relates to a sensitive and specific assay and kit for IFN-gamma activity which is based on the detection of the chemokine monokine induced by gamma interferon (MIG) as a measure of the biological effect of IFN-gamma rather than direct quantitation of IFN-gamma or IFN-gamma secreting cells per se. Upregulation of MIG expression was observed following in vitro activation of PBMC with defined CD8+ T cell epitopes derived from influenza virus, CMV, or EBV, and in all cases this was antigen-specific, genetically restricted and dependent on both CD8+ T cells and IFN-gamma. Further, antigen-specific MIG expression was also demonstrated with P. falciparum CSP peptides, using PBMC from volunteers immunized with irradiated P. falciparum sporozoites. Responses as assessed by the MIG assay paralleled those detected by conventional IFN-gamma ELISPOT, but the magnitude of response and sensitivity of the MIG assay were superior. Our data validate this novel method for the detection of high as well as low levels of antigen-specific and genetically restricted IFN-gamma activity or MIG.

DATES: Applications for an exclusive or partially exclusive license may be submitted at any time from the date of this notice.

ADDRESSES: Written objections are to be filed with the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone (301) 319-7428 or e-Mail at schlagelc@nmrc.navy.mil.

Dated: November 26, 2001.
T.J. Welsh,
Lieutenant Commander, Judge Advocate General's Corps, U.S. Navy, Federal Register Liaison Officer.

[FR Doc. 02-1555 Filed 1-22-02; 8:45 am]

BILLING CODE 3810-FF-P